DEPARTMENT OF ENERGY

Environmental Management Site-Specific Advisory Board Chairs Meeting

AGENCY: Department of Energy.

ACTION: Notice of open meeting.

SUMMARY: This notice announces a meeting of the Environmental Management Site-Specific Advisory Board (EMSSAB) Chairs. The Federal Advisory Committee Act (Pub. L. 92-463, 86 Stat. 770) requires that public notice of these meetings be announced in the Federal Register.

DATES: Thursday, April 28, 2005, 8:30 a.m.-5:15 p.m.; Friday, April 29, 2005, 8:30 a.m.-12 p.m.

ADDRESSES: Augusta Towers Hotel & Conference Center (formerly the Sheraton Hotel), 2651 Perimeter Parkway, Augusta, GA 30909, (706) 855-8100.

FOR FURTHER INFORMATION CONTACT: Jay Vivari, Program Management Specialist (EM-30.1), Department of Energy, 1000 Independence Avenue, SW., Washington, DC 20585, (202) 586-5143.

SUPPLEMENTARY INFORMATION: Purpose of the Board: The purpose of the EMSSAB is to make recommendations to DOE and its regulators in the areas of environmental restoration, waste management, and related activities.

Tentative Agenda

Thursday, April 28, 2005

8:30 a.m. Welcome and Overview. Jean Sulc, Savannah River Site (SRS) CAB Chair, welcome and introductions; Sandra Waisley, Designated Federal Officer, to open, followed by Mike Schoener, Facilitator, to review meeting objectives, agenda, and ground rules

8:45 a.m. Round Robin 1: Top Three Issues for Each Site-Specific Advisory Board Each Board has five minutes, followed by 30 minutes for questions and answers, and discussion

10 a.m. Break

10:15 a.m. Planning for the National Stakeholder Forum; members will discuss ideas for developing and conducting the National Stakeholder Forum on Waste Disposition

10:45 a.m. Stewardship Outreach; Presentation of the Oak Ridge Stewardship Education Resource Kit, followed by general discussion of stewardship outreach efforts across the complex

11:45 a.m. Public Comment Period

12 p.m. Lunch

1 p.m. Briefing by Principal Deputy Assistant Secretary Paul Golan (Tentative) and Chairs Discussion. Mr. Golan or his designee(s) will brief the Chairs on Accelerated Cleanup, the End States initiative and on Safety at EM Cleanup Sites. A discussion between Mr. Golan and the Chairs will follow the briefings

2:45 p.m. Break

3 p.m. Round Robin 2: Future of the EMSSAB (Part One). Site/SSAB Transfers from EM to Other DOE Offices. Each Board will have five minutes to describe the status of their individual site, indicating whether a transfer has or will soon occur from EM to another office within DOE, and the impact this transfer might have on the Board's future operation

3:45 p.m. Round Robin 2: Future of the EMSSAB (Part Two). General Discussion on the Impact of Site Transfers. Based on the information presented in Part One, the Chairs will discuss the impacts of these transfers on the EMSSAB as a whole

4:45 p.m. Public Comment Period

5 p.m. Review of Day One Discussions and Next Steps. Facilitated discussion of preliminary reactions to the information presented Friday, April 29, 2005

8:30 a.m. Opening; Welcome and Overview of Day Two Discussions

8:45 a.m. Consideration of National Forum Structure. Facilitated discussion to consider the structure of the proposed National Forum on Waste Disposition

9:30 a.m. Planning for Future Chairs Meetings/Workshops

10 a.m. Break

10:15 a.m. DOE Organizational Updates. New Positions, Personnel and Budget, Acquisition Strategy (including A-76 Program: Competitive Sourcing)

11:30 a.m. Public Comment Period

11:45 a.m. Meeting Wrap-Up, Jean Sulc, SRS CAB Chair, Closing Remarks

12 p.m. Adjourn

Public Participation: The meeting is open to the public. Written statements may be filed with the Board either before or after the meeting. Individuals who wish to make oral statements pertaining to agenda items should contact Jay Vivari at the address above or by telephone at (202) 586-5143. Requests must be received five days prior to the meeting and reasonable provision will be made to include the presentation in the agenda. The Designated Federal Officer is empowered to conduct the meeting in a fashion that will facilitate the orderly conduct of business. Individuals wishing to make public comment will be provided a maximum of five minutes to present their comments.

Minutes: Minutes of this meeting will be available for public review and copying at the Freedom of Information Public Reading Room, 1E-190, Forrestal Building, 1000 Independence Avenue, SW., Washington, DC 20585 between 9 a.m. and 4 p.m., Monday-Friday except Federal holidays. Minutes will also be available by calling Jay Vivari at (202) 586-5143.

Issued at Washington, DC on March 29, 2005.
Carol Matthews,
Acting Advisory Committee Officer.

[FR Doc. 05-6596 Filed 4-1-05; 8:45 am]

BILLING CODE 6450-01-P